DEPARTMENT OF HEALTH AND HUMAN SERVICES

Centers for Disease Control and Prevention

Board of Scientific Counselors, Coordinating Center for Health Promotion: Notice of Charter Renewal

This gives notice under the Federal Advisory Committee Act (Pub. L. 92-463) of October 6, 1972, that the Board of Scientific Counselors, Coordinating Center for Health Promotion, Department of Health and Human Services, has been renewed for a 2-year period through November 5, 2011.

For information, contact Karen Steinberg, Ph.D., Designated Federal Officer, Board of Scientific Counselors, Coordinating Center for Health Promotion, Department of Health and Human Services, 1600 Clifton Road, NE., M/S E70, Atlanta, Georgia, 30333, Telephone 404 498-6757.

The Director, Management Analysis and Services Office, has been delegated the authority to sign Federal Register notices pertaining to announcements of meetings and other committee management activities, for both the Centers for Disease Control and Prevention and the Agency for Toxic Substances and Disease Registry.

Dated: November 27, 2009.
Elaine L. Baker,
Director, Management Analysis and Services Office, Centers for Disease Control and Prevention.

[FR Doc. E9-29050 Filed 12-4-09; 8:45 am]

BILLING CODE 4163-18-P